SMALL BUSINESS ADMINISTRATION

[License #09/09-0386]

First Commerce & Loan, L.P.; Notice of License Surrender

Notice is hereby given that First Commerce & Loan, L.P. (“First Commerce”), an Arizona limited partnership, has surrendered its license to operate as a small business investment company under the Small Business Investment Act of 1958, as amended (“the Act”). First Commerce was licensed by the Small Business Administration on October 19, 1990.

Under the authority vested by the Act and pursuant to the regulations promulgated thereunder, the surrender of the license was accepted on November 9, 2000, and accordingly, all rights, privileges, and franchises derived therefrom have been terminated.

(Catalog of Federal Domestic Assistance Program No. 59-011, Small Business Investment Companies)
Dated: November 28, 2000.
Don A. Christensen,
Associate Administrator for Investment.

[FR Doc. 00-30777 Filed 12-1-00; 8:45 am]

BILLING CODE 8025-01-U